ENVIRONMENTAL PROTECTION AGENCY

[FRL-9154-9]

National Advisory Council for Environmental Policy and Technology Notice of Charter Renewal

AGENCY: Environmental Protection Agency (EPA).

ACTION: Notice of Charter Renewal.

Notice is hereby given that the Environmental Protection Agency (EPA) has determined that, in accordance with the provisions of the Federal Advisory Committee Act (FACA), 5 U.S.C. App.2, the National Advisory Council for Environmental Policy and Technology (NACEPT) is a necessary committee which is in the public interest. Accordingly, NACEPT will be renewed for an additional two-year period. The purpose of NACEPT is to provide advice and recommendations to the Administrator of EPA on a broad range of environmental policy, technology and management issues. Inquiries may be directed to Sonia Altieri, U.S. EPA, (Mail Code 1601M), 1200 Pennsylvania Avenue, NW., Washington, DC 20460, telephone (202) 564-0243, or altieri.sonia@epa.gov.

Dated: May 20, 2010.
Rafael DeLeon,
Director, Office of Cooperative Environmental Management.

[FR Doc. 2010-12650 Filed 5-25-10; 8:45 am]

BILLING CODE 6560-50-P